DEPARTMENT OF TRANSPORTATION

Surface Transportation Board

[STB Finance Docket No. 34106]

Gulf & Ohio Railways Holding Co., Inc., H. Peter Claussen and Linda C. Claussen-Continuance in Control Exemption-Conecuh Valley Railroad Co., Inc.

Gulf & Ohio Railways Holding Co., Inc. (G&O), a noncarrier, and H. Peter and Linda C. Claussen (the Claussens), have filed a notice of exemption to continue in control of Conecuh Valley Railroad Co., Inc. (CV), upon CV's becoming a Class III railroad.

This transaction was scheduled to be consummated on or after October 22, 2001, the effective date of the exemption (7 days after the notice was filed).

The transaction is related to STB Finance Docket No. 34105, Conecuh Valley Railroad Co., Inc.-Acquisition and Operation Exemption-Southern Alabama Railroad Company, Inc., wherein CV seeks to acquire from Southern Alabama Railroad Company Inc., and operate approximately 15.04 miles of rail line.

At the time it filed this notice, G&O owned and controlled the following other Class III rail carriers: Knoxville & Holston River Railroad Co., Inc., which operates in East Tennessee; Laurinburg & Southern Railroad Co., Inc., which operates in North Carolina; Lexington & Ohio Railroad Co., Inc., which operates in North Central Kentucky; Piedmont & Atlantic Railroad, Inc., which operates in Northwestern North Carolina under the trade name of Yadkin Valley Railroad; Rocky Mount & Western Railroad Co., Inc., which operates in Central North Carolina; Wiregrass Central Railroad Company, Inc., which operates in Southeast Alabama; and Three Notch Railroad Co., Inc., which operates in Alabama. The Claussens, who wholly own G&O, also own and control H&S Railroad, Inc., which operates in Southeast Alabama.

G&O and the Claussens state that CV will not connect with any of the affiliates, nor is this transaction part of a series of anticipated transactions that would connect CV with any of the affiliates and the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statue, may not impose labor protective conditions for this transaction.

If the verified notice contains false or misleading information, the exemption is void ab initio. Petitions to revoke the exemption under 49 U.S.C. 10502(d) may be filed at any time. The filing of a petition to revoke will not automatically stay the transaction.

An original and ten copies of all pleadings referring to STB Finance Docket No. 34106, must be filed with the Surface Transportation Board, Office of the Secretary, Case Control Unit, 1925 K Street, NW., Washington, DC 20423-0001. In addition, a copy of each pleading must be served on Rose-Michele Weinryb, Weiner Brodsky Sidman Kider PC, 1300 19th Street, NW., 5th Floor, Washington, DC 20036-1609.

Board decisions and notices are available on our web site at “WWW.STB.DOT.GOV.”

Decided: November 7, 2001.
By the Board, David M. Konschnik, Director, Office of Proceedings.
Vernon A. Williams,
Secretary.

[FR Doc. 01-28500 Filed 11-13-01; 8:45 am]

BILLING CODE 4915-00-P